DEPARTMENT OF ENERGY

Federal Energy Regulatory Commission

[Docket No. RP96-389-069]

Columbia Gulf Transmission Company; Notice of Compliance Filing

October 25, 2002.

Take notice that on October 21, 2002, Columbia Gulf Transmission Company (Columbia Gulf) tendered for filing as part of its FERC Gas Tariff, Second Revised Volume No. 1, Sixth Revised Sheet No. 316 to become effective October 10, 2002.

Columbia Gulf states that on August 30, 2002, it made a filing with the Commission seeking approval of a Rate Schedule FTS-1 negotiated rate agreement FPL Energy Power Marketing Inc. (FPL) in Docket No. RP96-389-067. On October 10, 2002, the Commission issued an order approving the service agreement effective November 1, 2002. The order directed Columbia Gulf to file a tariff sheet identifying the agreement as a non-conforming agreement in compliance with Section 154.112(b) of the Commission's regulations. The instant filing is being made to comply with Section 154.112(b) and reference the non-conforming service agreement in its Volume No. 1 tariff.

Columbia Gulf states that copies of its filing have been served to each of the parties listed on the service list.

Any person desiring to be heard or to protest said filing should file a motion to intervene or a protest with the Federal Energy Regulatory Commission, 888 First Street, NE, Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 502-8659. Comments, protests and interventions may be filed electronically via the Internet in lieu of paper. The Commission strongly encourages electronic filings. See, 18 CFR 385.2001(a)(1)(iii) and the instructions on the Commission's web site under the “e-Filing” link.

Magalie R. Salas,
Secretary.

[FR Doc. 02-27953 Filed 11-1-02; 8:45 am]

BILLING CODE 6717-01-P